ENVIRONMENTAL PROTECTION AGENCY

[EPA-HQ-OPP-2021-0196; FRL-10021-75]

Pesticide Program Dialogue Committee; Notice of Public Meeting

AGENCY: Environmental Protection Agency (EPA).

ACTION: Notice.

SUMMARY: Pursuant to the Federal Advisory Committee Act, the Environmental Protection Agency's (EPA's) Office of Pesticide Programs is announcing a virtual public meeting of the Pesticide Program Dialogue Committee (PPDC) on May 12 and 13, 2021, with participation by webcast only. There will be no in-person gathering for this meeting.

DATES: Virtual meeting: The virtual meeting will be held on Wednesday, May 12, 2021, from 11:00 a.m. to approximately 5:00 p.m., and Thursday, May 13, 2021, from 11:00 a.m. to approximately 5:00 p.m. To make oral comments during the virtual meeting, please email Shannon Jewell by noon on Tuesday, May 4, 2021.

ADDRESSES: Virtual meeting: Please visit https://www.epa.gov/pesticide-advisory-committees-and-regulatory-partners/pesticide-program-dialogue-committee-ppdc to find a link to register for the meeting.

FOR FURTHER INFORMATION CONTACT: Shannon Jewell, Office of Pesticide Programs, Environmental Protection Agency, 1200 Pennsylvania Ave. NW, (7501P), Washington, DC 20460; telephone number: (571) 289-9911; email address: jewell.shannon@epa.gov.

SUPPLEMENTARY INFORMATION:

I. General Information

A. Does this action apply to me?

You may be potentially affected by this action if you work in in agricultural settings or if you are concerned about implementation of the Federal Insecticide, Fungicide, and Rodenticide Act (FIFRA) (7 U.S.C. 136 et seq.); the Federal Food, Drug, and Cosmetic Act (FFDCA) (21 U.S.C. 301 et seq.); the Pesticide Registration Improvement Act (PRIA) (which amends FIFRA section 33); and the Endangered Species Act (ESA) (16 U.S.C. 1531 et seq.). Potentially affected entities may include, but are not limited to: Agricultural workers and farmers; pesticide industry and trade associations; environmental, consumer, and farm worker groups; pesticide users and growers; animal rights groups; pest consultants; state, local, and tribal governments; academia; public health organizations; and the public. If you have questions regarding the applicability of this action to a particular entity, consult the person listed under FOR FURTHER INFORMATION CONTACT.

B. How can I get copies of this document and other related information?

The docket for this action, identified by docket identification (ID) number EPA-HQ-OPP-2021-0196, is available online at http://www.regulations.gov.

Due to the public health concerns related to COVID-19, the EPA Docket Center (EPA/DC) and Reading Room is closed to visitors with limited exceptions. The staff continues to provide remote customer service via email, phone, and webform. For the latest status information on EPA/DC services and docket access, visit https://www.epa.gov/dockets.

Once the EPA/DC is reopened to the public, the docket will also be available in-person at the Office of Pesticide Programs Regulatory Public Docket (OPP Docket) in the EPA/DC, West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

II. Background

The PPDC is a federal advisory committee chartered under the Federal Advisory Committee Act (FACA), Public Law 92-463. EPA established the PPDC in September 1995 to provide advice and recommendations to the EPA Administrator on issues associated with pesticide regulatory development and reform initiatives, evolving public policy and program implementation issues, and policy issues associated with evaluating and reducing risks from use of pesticides. The following sectors are represented on the current PPDC: Environmental/public interest and animal rights groups; farm worker organizations; pesticide industry and trade associations; pesticide user, grower, and commodity groups; federal and state/local/tribal governments; the general public; academia; and public health organizations.

III. How do I participate in the virtual public meeting?

A. Virtual meeting. The virtual meeting will be conducted via webcast. Please visit https://www.epa.gov/pesticide-advisory-committees-and-regulatory-partners/pesticide-program-dialogue-committee-ppdc to find a link to register for the meeting.

B. Oral comments. Requests to make brief oral comments to the PPDC during the virtual meeting should be submitted to the DFO listed under FOR FURTHER INFORMATION CONTACT on or before noon on the date set in the DATES section.

Authority: 5 U.S.C. Appendix 2 et seq. and 7 U.S.C. 136 et seq.

Dated: April 8, 2021.
Edward Messina,
Acting Director, Office of Pesticide Programs.

[FR Doc. 2021-08461 Filed 4-22-21; 8:45 am]

BILLING CODE 6560-50-P